NUCLEAR REGULATORY COMMISSION

Consolidated Decommissioning Guidance; Notice of Revision to, Withdrawal of Portions of, and Process for Updating

AGENCY: Nuclear Regulatory Commission.

ACTION: Notice of revision to, withdrawal of portions of, and process for updating NUREG-1757.

SUMMARY: The U.S. Nuclear Regulatory Commission (NRC) staff is revising, withdrawing portions of, and describing the process for updating guidance in “Consolidated Decommissioning Guidance: Characterization, Survey, and Determination of Radiological Criteria” (NUREG-1757, Vol. 2, Rev. 1), Appendix N, “ALARA Analyses.” This notice also describes the staff's process for developing interim guidance and future revisions to the three volumes of its “Consolidated Decommissioning Guidance” (NUREG-1757).

ADDRESSES: NUREG-1757 is available for inspection and copying for a fee at the Commission's Public Document Room, NRC's Headquarters Building, 11555 Rockville Pike (First Floor), Rockville, Maryland. The Public Document Room is open from 7:45 a.m. to 4:15 p.m., Monday through Friday, except on Federal holidays. NUREG-1757 is also available electronically on the NRC Web site at: http://www.nrc.gov/reading-rm/doc-collections/nuregs/staff/sr1757/, and from the ADAMS Electronic Reading Room on the NRC Web site at: http://www.nrc.gov/reading-rm/adams.html.

The NRC's decommissioning Web page is at: http://www.nrc.gov/about-nrc/regulatory/decommissioning.html.

FOR FURTHER INFORMATION CONTACT: Duane W. Schmidt, Division of Waste Management and Environmental Protection, Office of Federal and State Materials and Environmental Management Programs, Mail Stop T-8F5, U.S. Nuclear Regulatory Commission, Washington, DC 20555-0001. Telephone: (301) 415-6919; e-mail: dws2@nrc.gov.

SUPPLEMENTARY INFORMATION: In September 2006, the NRC staff published Revision 1 of Volume 2 of NUREG-1757, entitled, “Consolidated Decommissioning Guidance: Characterization, Survey, and Determination of Radiological Criteria,” which provides technical guidance on compliance with the radiological criteria for license termination in the NRC's License Termination Rule (LTR) (Code of Federal Regulations, Title 10, Part 20, Subpart E). Volume 2 is applicable to all licensees subject to the LTR. Volume 2 is one of three volumes of the NUREG-1757 series, which, combined, provide consolidated guidance on decommissioning.

The NRC staff considers the development of its guidance as an iterative process. Formal revisions to of NUREG-1757 (i.e., publishing new revised volumes of NUREG-1757) are anticipated in the future. When these revised volumes are developed, the NRC staff intends to publish them as drafts for public comment. Between formal revisions of the NUREG-1757 volumes, errors needing correction or other revisions may be identified and the NRC staff may develop interim guidance and post it on the NRC's decommissioning web page, to make it available for use by licensees and other stakeholders.

During the review of a recently submitted decommissioning plan, proposing decommissioning in accordance with the restricted use provision of the LTR, the NRC staff determined that there are certain errors in Vol. 2 of NUREG-1757, Appendix N. The specific errors concern compliance with the “as low as is reasonably achievable” (ALARA) provisions of the LTR.

The guidance being corrected or withdrawn is described below.

Error 1. On page N-1 of Appendix N, the first paragraph provides a general introductory discussion of ALARA. In this paragraph, the word “feasible” is used twice when referring to ALARA. The correct word is “reasonable.”

Error 2. On page N-4 of Appendix N, The last paragraph discusses the monetary value for collective dose averted and discount rates that may be used in ALARA calculations. In particular, the paragraph includes the following two sentences: “For doses averted within the first 100 years, a discount rate of 7% should be used. For doses averted beyond 100 years, a 3% discount rate should be used. “ The discussion of discount rate in these two sentences is incorrect. Therefore, these two quoted sentences are withdrawn from the guidance of NUREG-1757, Vol. 2 and should not be used.

Error 3. On page N-10 of Appendix N, Table N.2 summarizes acceptable parameter values for use in decommissioning ALARA analyses. This table includes a row describing the monetary discount rate, r. Consistent with Error 2, above, the description for the second column (the “value” description) of the row on monetary discount rate, r, is withdrawn from the guidance of NUREG-1757, Vol. 2.

Error 4. On page N-12 of Appendix N, Example 3 is an ALARA calculation for removing surface soil contaminated with a long-lived radionuclide. Use of the single discount rate in the example may be misleading, because the guidance in NUREG/BR-0058 recommends multiple analyses be performed. Therefore, Example 3 is withdrawn from Appendix N of NUREG-1757, Vol. 2, and should not be used.

Error 5. On page N-18 of Appendix N, the last paragraph again discusses acceptable values for the discount rate, r. In particular, this paragraph includes the sentence: “Values for r are given in NUREG/BR-0058, Revision 2, and OMB policy (OMB 1996).” The referenced guidance is out-of-date, and this quoted sentence is withdrawn from the guidance of NUREG-1757, Vol. 2.

The staff intends to develop interim guidance to address the withdrawn portions of guidance discussed above and will post the interim guidance on the NRC's decommissioning Web page, to make it available for use by licensees and other stakeholders.

The guidance in NUREG-1757 and any corrections to NUREG-1757 are intended for use by NRC staff and licensees. The NUREG and any corrections are not substitutes for NRC regulations, and compliance with them is not required. The NUREG and corrections describe approaches that are generally acceptable to NRC staff. However, methods and solutions different than those in the NUREG and corrections will be acceptable, if they provide a basis for concluding that the decommissioning actions are in compliance with NRC regulations.

Dated at Rockville, MD, this 10th day of August, 2007.
For the Nuclear Regulatory Commission.
Keith I. McConnell,
Deputy Director, Decommissioning & Uranium Recovery, Licensing Directorate, Division of Waste Management and Environmental Protection, Office of Federal and State Materials and Environmental Management Programs.

[FR Doc. E7-16131 Filed 8-15-07; 8:45 am]

BILLING CODE 7590-01-P